FEDERAL COMMUNICATIONS COMMISSION

[DA 05-1263]

Annual Adjustment of Revenue Thresholds

AGENCY: Federal Communications Commission.

ACTION: Notice.

SUMMARY: This document announces that the 2004 revenue threshold between Class A carriers and Class B carriers is increased to $125 million. The 2004 revenue threshold between larger Class A carriers and mid-sized carriers is increased to $7.403 billion.

FOR FURTHER INFORMATION CONTACT: Debbie Weber, Pricing Policy Division, Wireline Competition Bureau at (202) 418-0812.

SUPPLEMENTARY INFORMATION: This is a summary of the Commission's public notice released April 28, 2005. This notice announces the inflation-adjusted 2004 revenue thresholds used for classifying carrier categories for various accounting and reporting purposes: (1) Distinguishing Class A carriers from Class B carriers; and (2) distinguishing larger Class A carriers from mid-sized carriers. The revenue threshold between Class A carriers and Class B carriers is increased to $125 million. The revenue threshold between larger Class A carriers and mid-sized carriers is increased to $7.403 billion. The revenue thresholds for 2004 were determined as follows:

| Mid-sized threshold | Larger Class A threshold
(1) GDP-CPI Base | 86.68 | 102.40.
(2) 2004 GDP-CPI | 108.30 | 108.30.
(3) Inflation Factor (line 2÷1) | 1.2494 | 1.0576.
(4) Original Revenue Threshold | $100 million | $7 billion.
(5) 2004 Revenue Threshold (line 3*4) | $125 million | $7.403 billion.

Federal Communications Commission.
Tamara L. Preiss,
Chief, Pricing Policy Division.

[FR Doc. 05-9211 Filed 5-10-05; 8:45 am]

BILLING CODE 6712-01-P